COMMISSION ON CIVIL RIGHTS

Notice of Public Meeting of the Florida Advisory Committee; Cancellation

AGENCY: Commission on Civil Rights.

ACTION: Notice; cancellation of meeting.

SUMMARY: The Commission on Civil Rights published a notice in the Federal Register concerning a meeting of the Florida Advisory Committee. The meeting, scheduled for Tuesday, June 18, 2024, at 11:00 a.m. ET, has been cancelled. The notice is in the Federal Register on Wednesday, May 15, 2024, in FR Document Number 2024-10652 on pages 42422-42423.

FOR FURTHER INFORMATION CONTACT: Liliana Schiller, Support Services Specialist, at lschiller@usccr.gov or (202) 770-1856.

Dated: June 14, 2024.
David Mussatt,
Supervisory Chief, Regional Programs Unit.

[FR Doc. 2024-13513 Filed 6-20-24; 8:45 am]

BILLING CODE P